DEPARTMENT OF HOMELAND SECURITY

[Docket No. DHS-2017-0049]

The President's National Infrastructure Advisory Council

AGENCY: National Protection and Programs Directorate, DHS.

ACTION: Committee management; notice of an open Federal Advisory Committee meeting.

SUMMARY: The President's National Infrastructure Advisory Council (NIAC) will meet Thursday, November 9, 2017, in Arlington, VA. This meeting will be open to the public.

DATES: The NIAC will meet on Thursday, November 9, 2017, 1:30 p.m.-4:30 p.m. Eastern Standard Time (EST). The meeting may close early if the committee has completed its business. For additional information, please consult the NIAC Web site, www.dhs.gov/NIAC, or contact the NIAC Secretariat by phone at (703) 235-2888 or by email at NIAC@hq.dhs.gov.

ADDRESSES: Navy League Building, 2300 Wilson Blvd. Arlington, VA 22201. Members of the public will register at the registration table prior to entering the meeting room. For information on facilities or services for individuals with disabilities, or to request special assistance at the meeting, contact the person listed under FOR FURTHER INFORMATION CONTACT below as soon as possible.

Members of the public are invited to provide comments on issues to be considered by the NIAC mentioned in the supplementary information section. Comments must be submitted in writing no later than 12:00 p.m. on November 9, 2017, in order to be considered by the Council in its meeting. The comments must be identified by docket number DHS-2017-0049, and may be submitted by any one of the following methods:

• Federal eRulemaking Portal: www.regulations.gov. Follow the instructions for submitting written comments.

• Email: NIAC@hq.dhs.gov. Include docket number DHS-2017-0049 in the subject line of the message.

• Fax: (703)235-9707, ATTN: Ginger Norris.

• Mail: Ginger Norris, National Protection and Programs Directorate, Department of Homeland Security, 245 Murray Lane SW., Mail Stop 0612, Washington, DC 20598-0607.

Instructions: All written submissions must include the words “Department of Homeland Security” and docket number DHS-2017-0049. Written comments will be posted without alteration at www.regulations.gov, including any personal information provided.

Docket: For access to the docket or to read background documents or comments received by the NIAC, go to www.regulations.gov. Enter “NIAC” in the search line and the Web site will list all relevant documents for your review.

Members of the public will have an opportunity to provide oral comments on the topics on the meeting agenda below, and on any previous studies issued by the NIAC. We request that comments be limited to the issues and studies listed in the meeting agenda and previous NIAC studies. All previous NIAC studies can be located at www.dhs.gov/NIAC. Public comments may be submitted in writing or presented in person for the Council to consider. Comments for discussion during the NIAC meeting can be received on or after Thursday, November 9, 2017 no later than one hour prior to the start of the meeting. Comments received after the deadline will be added as part of the subsuquent meeting minutes. In-person presentations will be limited to three minutes per speaker, with no more than 15 minutes for all speakers. Parties interested in making in-person comments should register on the Public Comment Registration list available at the entrance to the meeting location prior to the beginning of the meeting.

FOR FURTHER INFORMATION CONTACT: Ginger Norris, NIAC Designated Federal Officer, Department of Homeland Security, 202-441-5885, ginger.norris@hq.dhs.gov.

SUPPLEMENTARY INFORMATION: Notice of this meeting is given under the Federal Advisory Committee Act, 5 U.S.C. Appendix. The NIAC shall provide the President, through the Secretary of Homeland Security, with advice on the security and resilience of the Nation's critical infrastructure sectors. The NIAC will meet to discuss issues relevant to critical infrastructure security and resilience, as directed by the President. The Council will discuss future taskings and host a cross-sector panel discussion about various risks facing critical infrastructure. All powerpoint presentations will be posted prior to the meeting on the Council's public Web page www.dhs.gov/NIAC.

Agenda

I. Opening of Meeting

II. Roll Call of Members

III. Opening Remarks and Introductions

IV. Approval of August 2017 Meeting Minutes

V. Cross-Sector Panel Discussion

VI. Public Comment

VII. Discussion of New NIAC Business

VIII. Closing Remarks

IX. Adjournment

Deirdre Gallop-Anderson,
Alternate Designated Federal Officer for the National Infrastructure Advisory Council.

[FR Doc. 2017-22076 Filed 10-11-17; 8:45 am]

BILLING CODE 9110-9P-P